DEPARTMENT OF HEALTH AND HUMAN SERVICES

Centers for Disease Control and Prevention

Guide to Community Preventive Services (GCPS) Task Force: Meeting

Name: Task Force on Community Preventive Services.

Times and Dates: 9 a.m.-7 p.m., February 6, 2002, 8 a.m.-3 p.m., February 7, 2002.

Place: The Sheraton Colony Square, 188 14th Street, NE., Atlanta, Georgia 30361, telephone (404) 892-6000.

Status: Open to the public, limited only by the space available.

Purpose: The mission of the Task Force is to develop and publish a Guide to Community Preventive Services, which is based on the best available scientific evidence and current expertise regarding essential public health services and what works in the delivery of those services.

Matters to be discussed: Agenda items include: Presentations on the following chapters: Cancer (Informed Decision Making, School Based Interventions to Prevent Skin Cancer, and Interventions to Increase Breast, Cervical and Colorectal Cancer Screening), Nutrition and the Yale Obesity Reviews, Sexual Behavior, Vaccine Preventive Diseases (Expanding Access In Health Care Settings) and Violence Prevention (Early Childhood Home Visitation and Shall Issue Laws); presentations on the dissemination of the Physical Activity Chapter; dissemination and evaluation plans for the Cancer Chapter; and general updates on the evaluation plans and methods.

Agenda items are subject to change as priorities dictate.

Contact Person for Additional Information: Peter Briss, M.D., M.P.H., Acting Chief, Community Guide Branch, Division of Prevention Research and Analytic Methods, Epidemiology Program Office, CDC, 4770 Buford Highway, M/S K-73, Atlanta, Georgia 30341, telephone 770/488-8189.

Persons interested in reserving a space for this meeting should call 770/488-8189 by close of business on February 1, 2002.

The Director, Management Analysis and Services Office, has been delegated the authority to sign Federal Register notices pertaining to announcements of meetings and other committee management activities, for both the Centers for Disease Control and Prevention and the Agency for Toxic Substances and Disease Registry.

Dated: January 18, 2002.
Alvin Hall,
Acting Director, Management Analysis and Services Office, Centers for Disease Control and Prevention.

[FR Doc. 02-1848 Filed 1-24-02; 8:45 am]

BILLING CODE 4163-18-P